DEPARTMENT OF ENERGY

Federal Energy Regulatory Commission

Combined Notice of Filings #1

Take notice that the Commission received the following electric rate filings:

Docket Numbers: ER10-2124-021.

Applicants: Spring Canyon Energy LLC.

Description: Triennial Report of Spring Canyon Energy LLC.

Filed Date: 12/20/19.

Accession Number: 20191220-5364.

Comments Due: 5 p.m. ET 2/18/20.

Docket Numbers: ER10-2125-022.

Applicants: Judith Gap Energy LLC.

Description: Triennial Report of Judith Gap Energy LLC.

Filed Date: 12/20/19.

Accession Number: 20191220-5372.

Comments Due: 5 p.m. ET 2/18/20.

Docket Numbers: ER10-2128-021.

Applicants: Wolverine Creek Energy LLC.

Description: Triennial Report of Wolverine Creek Energy LLC.

Filed Date: 12/20/19.

Accession Number: 20191220-5358.

Comments Due: 5 p.m. ET 2/18/20.

Docket Numbers: ER10-2132-021.

Applicants: Willow Creek Energy LLC.

Description: Triennial Report of Willow Creek Energy LLC.

Filed Date: 12/20/19.

Accession Number: 20191220-5359.

Comments Due: 5 p.m. ET 2/18/20.

Docket Numbers: ER10-2764-021.

Applicants: Vantage Wind Energy LLC.

Description: Triennial Report of Vantage Wind Energy LLC.

Filed Date: 12/20/19.

Accession Number: 20191220-5363.

Comments Due: 5 p.m. ET 2/18/20.

Docket Numbers: ER10-2861-007; ER13-1504-008; ER10-2866-007.

Applicants: Fountain Valley Power, L.L.C., SWG Arapahoe, LLC, SWG Colorado, LLC.

Description: Updated Market Power Analysis for the Northwest Region of Fountain Valley Power, L.L.C., et al.

Filed Date: 12/20/19.

Accession Number: 20191220-5380.

Comments Due: 5 p.m. ET 2/18/20.

Docket Numbers: ER16-1720-010.

Applicants: Invenergy Energy Management LLC.

Description: Triennial Report of Invenergy Energy Management LLC.

Filed Date: 12/20/19.

Accession Number: 20191220-5374.

Comments Due: 5 p.m. ET 2/18/20.

Docket Numbers: ER20-442-000.

Applicants: Wildcat I Energy Storage, LLC.

Description: Supplement to November 22, 2019 Wildcat I Energy Storage, LLC tariff filing.

Filed Date: 12/20/19.

Accession Number: 20191220-5371.

Comments Due: 5 p.m. ET 1/10/20.

Docket Numbers: ER20-443-000.

Applicants: Acorn I Energy Storage, LLC.

Description: Supplement to November 22, 2019 Acorn I Energy Storage, LLC tariff filing.

Filed Date: 12/20/19.

Accession Number: 20191220-5370.

Comments Due: 5 p.m. ET 1/10/20.

Docket Numbers: ER20-650-001.

Applicants: El Paso Electric Company.

Description: Tariff Amendment: Service Agreement No. 325, Large Generator Interconnection Agreement with EDF to be effective 12/9/2019.

Filed Date: 12/23/19.

Accession Number: 20191223-5002.

Comments Due: 5 p.m. ET 1/13/20.

Docket Numbers: ER20-670-000.

Applicants: Consolidated Edison Company of New York, Inc.

Description: § 205(d) Rate Filing: DCFC Filing 12-2019 to be effective 12/23/2019.

Filed Date: 12/23/19.

Accession Number: 20191223-5003.

Comments Due: 5 p.m. ET 1/13/20.

Docket Numbers: ER20-671-000.

Applicants: Niagara Mohawk Power Corporation, New York Independent System Operator, Inc.

Description: § 205(d) Rate Filing: 205 filing re: LGIA (SA 2500) between Niagara Mohawk and Covanta Niagara I to be effective 11/26/2019.

Filed Date: 12/23/19.

Accession Number: 20191223-5005.

Comments Due: 5 p.m. ET 1/13/20.

Take notice that the Commission received the following electric reliability filings:

Docket Numbers: RR20-2-000.

Applicants: North American Electric Reliability Corporation, SERC Reliability Corporation.

Description: Joint Petition of the North American Electric Reliability Corporation and SERC Reliability Corporation for Approval of Amendments to SERC Reliability Corporation's Bylaws.

Filed Date: 12/20/19.

Accession Number: 20191220-5351.

Comments Due: 5 p.m. ET 1/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2019.
Nathaniel J. Davis, Sr.,
Deputy Secretary.

[FR Doc. 2019-28253 Filed 12-30-19; 8:45 am]

BILLING CODE 6717-01-P